DEPARTMENT OF ENERGY

Federal Energy Regulatory Commission

[Docket No. CP17-40-000]

Spire STL Pipeline Company, LLC; Supplemental Notice of Intent To Prepare an Environmental Assessment for the Proposed Spire STL Pipeline Project and Request for Comments on Environmental Issues

The staff of the Federal Energy Regulatory Commission (FERC or Commission) will prepare an environmental assessment (EA) that will discuss the environmental impacts of the Spire STL Pipeline Project (Project) involving construction and operation of facilities by Spire STL Pipeline Company, LLC (Spire) in Scott, Greene, and Jersey Counties, Illinois and St. Charles and St. Louis Counties, Missouri. The Commission will use this EA in its decision-making process to determine whether the Project is in the public convenience and necessity.

On October 26, 2016, the Federal Energy Regulatory Commission (FERC or Commission) issued in Docket No. PF16-9-000 a Notice of Intent to Prepare an Environmental Assessment for the Planned Spire STL Pipeline Project, Request for Comments on Environmental Issues, and Notice of Public Scoping Sessions (NOI). Spire has subsequently filed a potential pipeline route alternative in St. Louis County, Missouri.

This supplemental notice announces the opening of the scoping process the Commission will use to gather input from the public and interested agencies regarding the pipeline route alternative. You can make a difference by providing us with your specific comments or concerns about the new route under consideration. Your comments should focus on the potential environmental effects, reasonable alternatives, and measures to avoid or lessen environmental impacts. Your input will help the Commission staff determine what issues to evaluate in the EA. To ensure that your comments are timely and properly recorded, please send your comments so that the Commission receives them in Washington, DC on or before April 3, 2017.

This notice is being sent to a subset of the Commission's current environmental mailing list for this Project, relevant to the new alternative in St. Louis County. State and local government representatives should also notify their constituents and encourage them to comment on their areas of concern.

If you are a landowner receiving this notice, a pipeline company representative may contact you about the acquisition of an easement to construct, operate, and maintain the planned facilities. The company would seek to negotiate a mutually acceptable agreement. However, if the Commission approves the Project, that approval conveys with it the right of eminent domain. Therefore, if easement negotiations fail to produce an agreement, the pipeline company could initiate condemnation proceedings where compensation would be determined in accordance with state law.

A fact sheet prepared by the FERC entitled “An Interstate Natural Gas Facility On My Land? What Do I Need To Know?” is available for viewing on the FERC Web site (www.ferc.gov). This fact sheet addresses a number of typically asked questions, including the use of eminent domain and how to participate in the Commission's proceedings.

Public Participation

For your convenience, there are three methods you can use to submit your comments to the Commission. The Commission encourages electronic filing of comments and has expert staff available to assist you at (202) 502-8258 or efiling@ferc.gov. Please carefully follow these instructions so that your comments are properly recorded.

(1) You can file your comments electronically using the eComment feature on the Commission's Web site (www.ferc.gov) under the link to Documents and Filings. This is an easy method for submitting brief, text-only comments on a project;

(2) You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address. Be sure to reference the Project docket number (CP17-40-000) with your submission: Kimberly D. Bose, Secretary, Federal Energy Regulatory Commission, 888 First Street NE., Room 1A, Washington, DC 20426.

Summary of the Route Alternative

Spire has identified a new pipeline route alternative due to uncertainty associated with the purchase and conversion, from local distribution to interstate transport, of existing Line 880. The route alternative would consist of 6.5 miles of new (“greenfield”) 24-inch-diameter pipeline, and would have similar start and end points as the existing Line 880; however, the alternative would follow a slightly different route. The alternative would extend south from the proposed Leclede/Lange Delivery Station for 1 mile, then turn southeast (crossing Line 880 near MP 1.75) for about 3.5 miles before turning south again for about 1.8 miles, where it then turns east for the terminus at the proposed MRT Bi-directional Station. The general location of the proposed and alternative Project facilities is shown in appendix 1.¹

¹ The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

Spire indicates that it intends to use Line 880, as currently proposed, if that system is available. However, if Line 880 does not become available for use by Spire, and the route alternative were to be incorporated, the proposed modifications to the existing Line 880 and to the exiting Redman Delivery Station would not be necessary.

Land Requirements for Construction

The route alternative would be collocated for about 1.7 miles (26 percent) of the route. The land use types crossed by the alternative would be similar to those impacted by the proposed route; however, since the alternative would be a new, greenfield route, the total impacts would be greater: 71.4 acres during construction (as compared to 8.0 acres for the proposed use of existing Line 880) and 39.6 acres during operation (as compared to 0.4 acre).

The EA Process

The FERC process used for implementing the National Environmental Policy Act and for evaluating environmental impacts is described in more detail in the original NOI issued for the Project. That NOI can be viewed on the FERC Web site at http://www.ferc.gov. Using the “eLibrary” link, select “Advanced Search” from the eLibrary menu and enter 20161026-3066 in the “Numbers: Accession Number” field.

As noted in the original NOI, copies of the EA will be sent to the environmental mailing list for public review and comment. If you would prefer to receive a paper copy of the document instead of the CD version or would like to remove your name from the mailing list, please return the attached Information Request (appendix 2).

Becoming an Intervenor

In addition to involvement in the EA scoping process, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the “Document-less Intervention Guide” under the “e-filing” link on the Commission's Web site. Motions to intervene are more fully described at http://www.ferc.gov/resources/guides/how-to/intervene.asp.

Additional Information

Additional information about the project is available from the Commission's Office of External Affairs, at (866) 208-FERC, or on the FERC Web site (www.ferc.gov) using the eLibrary link. Click on the eLibrary link, click on “General Search” and enter the docket number, excluding the last three digits in the Docket Number field (i.e., CP17-40). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Finally, public sessions or site visits will be posted on the Commission's calendar located at www.ferc.gov/EventCalendar/EventsList.aspx along with other related information.

Dated: March 3, 2017.
Kimberly D. Bose,
Secretary.

[FR Doc. 2017-04720 Filed 3-9-17; 8:45 am]

BILLING CODE 6717-01-P